DEPARTMENT OF JUSTICE

Public Symposium: Voice, Video and Broadband: The Changing Competitive Landscape and Its Impact on Consumers

AGENCY: Antitrust Division, Department of Justice.

ACTION: Notice of Symposium and call for written submissions.

SUMMARY: On November 29, 2007, the Department of Justice Antitrust Division (“Antitrust Division”) will host a public symposium on “Voice, Video and Broadband: The Changing Competitive Landscape and Its Impact on Consumers.” The symposium will address issues related to competition in the provision of voice, video and broadband Internet access, focusing on consumer services and the impact of convergence between traditionally distinct lines of activity such as video delivery, landline telephony, and wireless services.

The event is open to the public. There is no fee for attendance. Preregistration is not necessary to attend but is strongly encouraged to facilitate space and other planning for the event. Preregistration is requested by November 16, 2007. To preregister, send your name, affiliation and e-mail address to 2007TelecomSymposium@usdoj.gov and refer to “Preregistration” in the subject line of the message.

Additional information about the symposium will be posted on the DOJ Web site at http://www.usdoj.gov/atr/public/workshops/telecom2007/index.htm (“symposium Web site”).

Date: Thursday, November 29, 2007.

Time: 9 a.m. to 5:30 p.m.

Place: Ronald Reagan Building, Horizon Room, 1300 Pennsylvania Avenue, NW., Washington, DC. All attendees will be required to show a valid form of photo identification, such as a driver's license, to be admitted.

Submission of Relevant Information: Any person may make a written submission in paper or electronic form on the topics to be discussed as described below under Supplementary Information. Studies, surveys, research and empirical data are especially useful. Any submissions must be received on or before November 13, 2007. Such material will be made available for review by panelists, may be made available at the Antitrust Division's discretion to the public on the Internet or through other means, and may be used in any summary of the symposium. Participation as a speaker at the symposium is by invitation of the Department of Justice only.

Paper submissions should clearly refer to “Voice, Video and Broadband: The Changing Competitive Landscape and Its Impact on Consumers” in the text and on the envelope. An original and two complete copies should be mailed or delivered to: United States Department of Justice, Antitrust Division, City Center Building Suite 8000, Attention: Ashley Becker, 1401 H Street, NW., Washington, DC 20530.

Electronic submissions should be sent to 2007TelecomSymposium@usdoj.gov with a reference to “Submission” in the subject line of the message. Electronic submissions by e-mail should not exceed 10 MB with attachments. Alternatively, submissions may be made on media such as CDs and sent to the address listed above for paper submissions. Use of a courier service is recommended to avoid possible damage to electronic media in screening. If you make an electronic submission using PDF format, please include a comparable text version in a separate file (such as Word or WordPerfect).

All submissions received by the Division will be made part of the public record. Submissions and the identity of the submitter may be disclosed, reproduced and distributed by publication and/or posting on the Antitrust Division Web site at http://www.usdoj.gov/atr/public/workshops/telecom2007/index.htm. Information submitted in connection with this symposium will not be maintained as confidential by the Department of Justice.

FOR FURTHER INFORMATION CONTACT: Ashley Becker, Department of Justice, Antitrust Division, City Center Building Suite 8000, 1401 H Street, NW., Washington, DC 20530, telephone (202) 514-5835. Additional information on the symposium will also be posted on the symposium Web site.

SUPPLEMENTARY INFORMATION:

Background and Symposium Goals

The telecommunications industry has been experiencing significant technological, economic, and regulatory changes in the decade since the passage of the Telecommunications Act of 1996. In particular, telecommunications services provided to consumers, including voice telephony and broadband data, have increasingly come to be provided by competing facilities-based alternatives. Cable television systems have been entering residential voice telephony services in much of the United States over the past few years, relying heavily on Voice over Internet Protocol (VoIP) technology. In addition, some telephone carriers have begun to compete in the delivery of multichannel video programming with traditional incumbent cable systems and satellite-based delivery. There is widespread discussion of other possible alternatives for delivery of telecommunications and video services to consumers, including wireless and broadband over power lines. Voice telephony, broadband and multichannel video programming services are frequently offered to consumers as bundles, often at discounts from stand-alone services.

At the same time, concerns are sometimes expressed about remaining barriers to entry into the delivery of telecommunications and video programming services. Such barriers—whether arising from regulatory restrictions, conduct of established providers, or inherent economic and technical limitations—may tend to restrict the degree of competitiveness of these services. The Department has recently advocated various regulatory and legal changes that will make entry into video programming delivery and telephone services more likely.¹

¹ See, e.g., Proposed Modifications to the Application Form for Approval of Authority to Offer, Render, Furnish or Supply Telecommunications Services to the Public in the Commonwealth of Pennsylvania, Pennsylvania Public Utility Commission, Docket No. M-00960799, Comments of the United States Department of Justice (filed March 27, 2007) (recommending reform of Pennsylvania's procedures for certification of competitors to provide facilities-based telephony services in rural areas to promote more rapid entry); In the Matter of Implementation of section 621(a)(1) of the Cable Communications Policy Act of 1984 as amended by the Cable Television Consumer Protection and Competition Act of 1992, Federal Communications Commission, MM Docket No. 05-311, Ex Parte Submission of the Department of Justice (May 10, 2006) (requesting the FCC to address what would constitute an “unreasonable refusal” by a local franchising authority to award a competitive video franchise, and expressing concern about certain practices such as build-out requirements). Other actions taken by the Department of Justice are referenced on the symposium Web site.

The Antitrust Division will host a symposium on Thursday, November 29, 2007, in Washington, DC, to provide a forum for discussion of the current status of competition in telecommunications services and video programming delivery, the prospects for additional competition, and whether regulatory changes or other government action would promote more competition. The symposium will be structured around four panel discussions focused on the topics below.

Morning Session: Cable TV and Telephone Company Competition

Consumers are beginning to benefit from new facilities-based competition. Cable television systems are beginning to offer voice telephony in addition to video and broadband, and telephone companies are beginning to offer video in addition to voice and broadband. How widespread is this facilities-based competition now, and how extensive is it likely to become? What regulatory or other obstacles do entrants still face? What are the ramifications for competition and antitrust analysis of this entry and how has bundling impacted the nature of competition?

Panel I: Entry Into Multichannel Video Services

Issues: This panel will explore whether there are significant regulatory (federal, state and local) or other constraints on video entry and how competition has changed as a result of the telephone companies' entry into offering video services. How widely are telephone company video services likely to be offered in the future? How have telecommunications entry and bundling affected competition?

Panel II: Entry Into Telecommunications Services

Issues: This panel will explore whether there are significant regulatory (federal, state and local) or other constraints on voice entry and how competition has changed as a result of the cable companies' entry into telephony. To what extent are various modes of entry used now and how likely are they to be used in the future? Are there areas unlikely to see competition? What effect have subsidies had on competition? How have entry by cable TV companies and bundling affected competition?

Afternoon Session: Alternative Technologies To Reach the Consumer

Some observers have predicted that most telecommunications and entertainment services will at some point be delivered to all consumers over a single connection to their homes. Will consumers have a wide selection of alternative providers for that connection?

Panel III: Wireless Technologies

Issues: This panel will focus on the extent to which wireless broadband systems are current and future competitive alternatives to cable modems and DSL. What regulatory or other issues could delay rollout? What are the prospects for municipal broadband networks? How are these advanced wireless services likely to impact competition?

Panel IV: Other Technologies Including Satellite, Broadband Over Power Line

Issues: This panel will focus on whether other technologies such as satellite and broadband over power lines can compete for customers. What is the current and predicted subscriber base for these services, and what is necessary to attract more subscribers and providers? Will these services be competitive everywhere or only in limited geographic areas or for certain types of customers?

Privacy Notice: Those who preregister for the symposium must supply their name, affiliation and e-mail address to the Antitrust Division. The Department of Justice is permitted by law to collect this contact information to consider and use for the stated purpose. Under the Freedom of Information Act (FOIA) or other laws, we may be required to disclose the information you provide us to outside organizations. In addition, all timely and responsive submissions, whether filed in paper or electronic form, may be made publicly available at http://www.usdoj.gov/atr/public/workshops/telecom2007/index.htm. While DOJ makes certain efforts, in its discretion, to remove home contact and other personally identifying information for individuals from the public submissions it receives before placing those submissions on its Web site, persons making submissions are responsible for ensuring that these do not contain any information that they are unwilling to have disclosed to the public. For additional information, including routine uses permitted by the Privacy Act, see the DOJ Web site privacy policy at http://www.usdoj.gov/privacy-file.htm.

Dated: October 10, 2007.
Thomas O. Barnett,
Assistant Attorney General, Antitrust Division.

[FR Doc. E7-20478 Filed 10-16-07; 8:45 am]

BILLING CODE 4410-11-P